NUCLEAR REGULATORY COMMISSION

[Docket No. 50-305]

Nuclear Management Company, LLC, Notice of Correction to Biweekly Notice of Issuance of Amendment to Facility Operating License

AGENCY: Nuclear Regulatory Commission.

ACTION: Notice of issuance; correction.

SUMMARY: This document corrects a notice appearing in the Federal Register on April 12, 2005 (70 FR 19122). The correct date of issuance should be “March 24, 2005” instead of “March 17, 2005.” Also, the safety evaluation should be dated “March 24, 2005.” This action is necessary to correct an erroneous date.

FOR FURTHER INFORMATION CONTACT: Fred Lyon, Office of Nuclear Reactor Regulation, U.S. Nuclear Regulatory Commission, Washington, DC 20555-0001; telephone (301) 415-2296, e-mail: CFL@nrc.gov.

SUPPLEMENTARY INFORMATION: On page 19122, in the second column, in the second paragraph, seventh line, it is corrected to read from “March 17, 2005” to “[March 24, 2005 ].” Also, on the same page and column, the fifth paragraph down, the third line should read “Safety Evaluation dated March 24, 2005.”

Dated in Rockville, Maryland, this 18th day of April, 2005.
For the Nuclear Regulatory Commission.
Carl F. Lyon,
Project Manager, Section 1, Project Directorate III, Division of Licensing Project Management, Office of Nuclear Reactor Regulation.

[FR Doc. E5-1905 Filed 4-21-05; 8:45 am]

BILLING CODE 7590-01-P